DEPARTMENT OF THE INTERIOR

Bureau of Land Management

[AZ-020-00-1430-ES; AZA-31250]

Notice of Realty Action; Recreation and Public Purposes (R&PP) Act Classification; Arizona

Correction

In notice document 00-19872 beginning on page 48250 in the issue of Monday, August 7, 2000, make the following correction:

On page 48250, in the third column, in the land description, sections 14 and 24 are corrected to read as follows:

14, E½NE¼NE¼,E½NE¼SE¼; 24, E½,N½NW¼;

[FR Doc. C0-19872 Filed 9-18-00; 8:45 am]

BILLING CODE 1505-01-D